DEPARTMENT OF AGRICULTURE

Forest Service

South Gifford Pinchot National Forest Resource Advisory Committee Meeting Notice

ACTION: Notice of meeting.

SUMMARY: This South Gifford Pinchot National Forest Resource Advisory Committee will meet on Thursday, September 6th at the Skamania County Courthouse Annex, 170 NW. Vancouver Ave., Stevenson, Washington. The meeting will begin at 9:30 a.m. and continue until 5 p.m. The purpose of the meeting is to review ongoing Title II and III projects, elect a chair, set an indirect project percentages, and make recommendations on proposals for Title II funding of projects under the Secure Rural Schools and County Self-Determination Act of 2000.

All South Gifford Pinchot National Forest Resources Advisory Committee meetings are open to the public. Interested citizens are encouraged to attend. The “open forum” provides opportunity for the public to bring issues, concerns, and discussion topics to the Advisory Committee. The “open forum” is scheduled to occur at 9:45 a.m. on September 6, 2007. Interested speakers will need to register prior to the open forum period. The committee welcomes the public's written comments on committee business at any time.

FOR FURTHER INFORMATION CONTACT: Direct questions regarding this meeting to Chris Strebig, Public Affairs Specialist, at (360) 891-5005, or write Forest Headquarters Office, Gifford Pinchot National Forest, 10600 NE. 51st Circle, Vancouver, WA 98682.

Dated: July 27, 2007
Lynn Burditt,
Deputy Forest Supervisor.

[FR Doc. 07-3826 Filed 8-9-07; 8:45 am]

BILLING CODE 3410-11-M